DEPARTMENT OF DEFENSE

Department of the Air Force

Record of Decision for the Presidential Aircraft Recapitalization Program at Joint Base Andrews-Naval Air Facility Washington, Maryland Final Environmental Impact Statement

AGENCY: Department of the Air Force, DOD.

ACTION: Notice of availability of a Record of Decision.

SUMMARY: The United States Air Force signed the Record of Decision for the Presidential Aircraft Recapitalization at Joint Base Andrews-Naval Air Facility Washington, Maryland (hereafter referred to as “the Program”) Final Environmental Impact Statement. The Air Force will construct and operate a two-bay Presidential Aircraft Recapitalization Hangar Complex (hereafter referred to as “the Hangar Complex”) facility on Joint Base Andrews at a location known as Alternative 4 to house two separately acquired Boeing 747-8 aircraft.

FOR FURTHER INFORMATION CONTACT: Mr. Michael Ackerman, (210) 925-2741, EIS Project Manager, AFCEC/CZN, 2261 Hughes Ave, Ste. 155, JBSA Lackland, TX 78326-9853.

SUPPLEMENTARY INFORMATION: On December 27, 2017 the United States Air Force signed the Record of Decision for the Presidential Aircraft Recapitalization. The Air Force decided to utilize the interim Taxiway C site for the Hazardous Cargo Pad during the Hangar complex construction but did not make a final decision for the Hazardous Cargo Pad and Explosive Ordnance Disposal Proficiency Range permanent siting. However, the Air Force identified Hazardous Cargo Pad and Explosive Ordnance Disposal Proficiency Range Southeast Option 1 or a variant thereof (e.g. Southeast Option 1A or 1A-3) as its preferred alternative for the permanent siting of these facilities. The final decision for the permanent siting of the Hazardous Cargo Pad/Explosives Ordnance Disposal Proficiency Range may be made in a subsequent Record of Decision no earlier than 30 days from this publication and after considering any additional comments that may be received on the preferred alternative for these facilities. The Record of Decision includes decisions on other mission activities necessitated by the Hangar Complex siting.

Air Force decisions documented in the Record of Decision were based on matters discussed in the Final Environmental Impact Statement, inputs from the public and regulatory agencies, and other relevant factors. The Final Environmental Impact Statement was made available to the public on October 17, 2017 through a notice of availability in the Federal Register (Volume 82, Number 199, Page 48227) with a wait period that ended on November 15, 2017. The Record of Decision documents only the decision of the Air Force with respect to the proposed Air Force actions analyzed in the Final Environmental Impact Statement.

Authority: This notice of availability is published pursuant to the regulations (40 CFR 1506.6 and 1502.14(e)) implementing the provisions of NEPA (42 U.S.C. 4321, et seq.) and the Air Force's Environmental Impact Analysis Process (32 CFR 989.21(b) and 989.24(b)(7)).

Henry Williams,
Acting Air Force Federal Register Officer.

[FR Doc. 2018-02877 Filed 2-15-18; 8:45 am]

BILLING CODE 5001-10-P